NUCLEAR REGULATORY COMMISSION

10 CFR Part 72

RIN 3150-AG54

List of Approved Spent Fuel Storage Casks: FuelSolutions Addition

AGENCY: Nuclear Regulatory Commission.

ACTION: Final rule.

SUMMARY: The Nuclear Regulatory Commission (NRC) is amending its regulations to add the FuelSolutions cask system to the list of approved spent fuel storage casks. This amendment allows the holders of power reactor operating licenses to store spent fuel in this approved cask system under a general license.

EFFECTIVE DATE: This final rule is effective on February 15, 2001.

FOR FURTHER INFORMATION CONTACT: Stan Turel, telephone (301) 415-6234, e-mail spt@nrc.gov of the Office of Nuclear Material Safety and Safeguards, U.S. Nuclear Regulatory Commission, Washington, DC 20555-0001.

SUPPLEMENTARY INFORMATION:

Background

Section 218(a) of the Nuclear Waste Policy Act of 1982, as amended (NWPA), requires that “[t]he Secretary [of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the NWPA states, in part, “[t]he Commission shall, by rule, establish procedures for the licensing of any technology approved by the Commission under Section 218(a) for use at the site of any civilian nuclear power reactor.”

To implement this mandate, the NRC approved dry storage of spent nuclear fuel in NRC-approved casks under a general license, publishing a final rule in 10 CFR part 72 entitled “General License for Storage of Spent Fuel at Power Reactor Sites” (55 FR 29181; July 18, 1990). This rule also established a new Subpart L within 10 CFR part 72 entitled, “Approval of Spent Fuel Storage Casks,” containing procedures and criteria for obtaining NRC approval of dry storage cask designs.

Discussion

This rule will add the FuelSolutions cask system to the list of approved spent fuel storage casks in 10 CFR 72.214. Following the procedures specified in 10 CFR 72.230 of subpart L, BNFL Fuel Solutions submitted an application for NRC approval with the Safety Analysis Report (SAR) entitled, “Final Safety Analysis Report for the FuelSolutions Spent Fuel Management System.” The NRC evaluated the BNFL Fuel Solutions submittal and issued a preliminary Safety Evaluation Report (SER) and a proposed Certificate of Compliance (CoC) for the FuelSolutions cask system. The NRC published a proposed rule in the Federal Register (65 FR 42647; July 11, 2000) to add the FuelSolutions cask system to the listing in 10 CFR 72.214. The comment period ended on September 25, 2000. Two comment letters were received on the proposed rule.

Based on NRC review and analysis of public comments, the NRC has modified, as appropriate, the CoC, SER, SAR, and the Technical Specifications (TS) for the FuelSolutions cask system.

The NRC finds that the FuelSolutions cask system, as designed and when fabricated and used in accordance with the conditions specified in its CoC, meets the requirements of 10 CFR Part 72, Subpart L. Thus, use of the FuelSolutions cask system as approved by the NRC will provide adequate protection of public health and safety and the environment. With this final rule, the NRC is approving the use of the FuelSolutions cask system under the general license in 10 CFR part 72, Subpart K, by holders of power reactor operating licenses under 10 CFR part 50. Simultaneously, the NRC is issuing a final SER and CoC that will be effective on February 15, 2001. Single copies of the final CoC and SER will be available by January 30, 2001 for public inspection and/or copying for a fee at the NRC Public Document Room (PDR),11555 Rockville Pike, Rockville, Maryland 20852 and electronically at http://ruleforum.llnl.gov.

Documents created or received at the NRC after November 1, 1999, are also available electronically at the NRC's Public Electronic Reading Room on the Internet at http://www.nrc.gov/NRC/ADAMS/index.html. The public can gain entry from this site into the NRC's Agency wide Document Access and Management System (ADAMS), which provides text and image files of the NRC's public documents. An electronic copy of the final CoC, Technical Specifications, and SER for the FuelSolutions cask system can be found in ADAMS under Accession No. ML003759247. However, because the NRC must incorporate the date of publication of this Federal Register notice into the CoC, these documents are not yet publicly available. The NRC will make these documents publically available by January 30, 2001. Contact the NRC PDR reference staff for more information. PDR reference staff may be reached at 1-800-397-4209, 301-415-4737, or by e-mail at pdr@nrc.gov.

Summary of Public Comments on the Proposed Rule

The NRC received two comment letters from one commenter within the nuclear industry on the proposed rule. Copies of the public comments are available for review in the NRC Public Document Room, 11555 Rockville Pike, Rockville, MD 20852 and electronically at http://ruleforum.llnl.gov.

Comments on the FuelSolutions Cask System

The comments and responses have been grouped into four subject areas: Safety Evaluation Report (SER), Certificate of Compliance (CoC), Technical Specifications (TS), and Safety Analysis Report (SAR). The NRC's decision to list the FuelSolutions cask system within 10 CFR 72.214, “List of approved spent fuel storage casks,” has not been changed as a result of the public comments. A review of the comments and the NRC's responses follow:

A: Safety Evaluation Report

Comment A-1: The commenter requested that within the Draft Safety Evaluation Report, Section 4.1, under BFS Methodology for Calculating Maximum Allowable Cladding Temperature, a clarifying statement be added, stating that for PWR and BWR fuel assemblies with burnups under 45,000 MWD/MTU cladding oxide thickness measurement is not required. The commenter remarked that the last sentence in the sixth paragraph of this section notes that the strain limit is defendable for spent fuels having oxide thicknesses less than 70 micrometers, irrespective of burnup. The last paragraph of this section states that for fuel with burnups between 45,000 and 60,000 MWD/MTU the cladding thickness must be measured. A statement that this is not required for fuels with burnups less than 45,000 MWD/MTU would clarify the requirements for lower burnup fuels.

Response: The NRC agrees with the proposed clarification, and the SER has been revised to add a sentence stating that oxide measurements are not required for burnups below 45,000 MWD/MTU.

Comment A-2: The commenter requested an editorial clarification within the Draft Safety Evaluation Report, Section 5.1.1, noting that in the first sentence of the first paragraph, the term “steel-lead-water-steel” includes a redundant term “steel.” The composite shielding of the transfer cask includes the three materials listed (i.e., steel-lead-water).

Response: The NRC agrees with the proposed clarification and the SER has been revised accordingly.

Comment A-3: The commenter requested an editorial clarification within the Draft Safety Evaluation Report, Section 5.3.1, where under Adjoint Model, the word “discrete” is misspelled.

Response: The misspelled word has been corrected.

Comment A-4: The commenter stated that within the Draft Safety Evaluation Report, Section 8.1.4, the time values listed in the fifth, sixth, and seventh sentences are for the W21 canister. The values for the W74 canister are seven hours, four hours, and four hours, respectively. The commenter requested that the SER be revised either to clarify that the values shown are for the W21 canister or to report the values for both canisters explicitly.

Response: NRC agrees with the comment. Section 8.1.4 of the SER has been revised for clarity. Values for both canisters have been stated explicitly.

Comment A-5: The commenter stated that within the Draft Safety Evaluation Report, Section 8.3, the general actions for canister unloading listed in the second sentence are not in the actual sequence of operations as reported in the WSNF-200 SAR, Section 8.2.3. The commenter requested that to avoid confusion, the sentence be revised to list the actions in sequence, as follows:

(a) Move the action “lowering the cask into the pool” to after the action “removing the canister lid.”

(b) Change “removing the canister lid” to “removing the canister lids” (note that there are two lids—inner and outer).

(c) Add “removing the shield plug” before “and removing the fuel assemblies from the storage basket.”

Response: The NRC agrees with the comment and the SER has been revised to clarify the sequence of actions.

Comment A-6: The commenter requested that within the Draft Safety Evaluation Report, editorial clarifications be made in Section 10.3.2, third paragraph as follows:

(A) Fourth sentence—per WSNF-200 SAR Table 10.4-8, the dose rate listed is calculated for one year. The dose for 30 days would need to be factored from the values presented as follows: Take 1/12 of the 64 cask accident direct and of the 63 cask normal release, then add the 1 cask accident release (approx. 931 mrem for 30 days). This comment also affects the conclusion statement in the eighth sentence.

(B) Fifth sentence—per WSNF-200 SAR Section 10.4.3, the maximum transfer cask loss of neutron shield accident dose is 25.3 mrem per 24 hours, not per hour.

(C) Sixth sentence—delete the words “of the WSNF-200 SAR” from the end of the sentence. The NRC staff's review is documented in the SER, not the WSNF-200 SAR.

(D) Seventh sentence—the 751 mrem dose was calculated for the bone, not the lung.

Response: The NRC agrees with the comments:

(A) The dose rate was calculated for a one year period. The SER has been revised to state that the maximum dose at 100 meters is about 2900 mrem from the storage cask array, assuming an individual is present for a year, for accident conditions. This sentence is now in agreement with the eighth sentence.

(B) The SER has been revised to state that the maximum dose from the transfer cask for a loss of neutron shield accident is 25.3 mrem for a 24-hour period.

(C) The SER has been revised to state that the NRC staff's review is discussed in Section 7 of the SER.

(D) The SER has been revised to state that the 751 mrem dose was calculated for the bone.

B: Certificate of Compliance

Comment B-1: The commenter requested that within the Draft Certificate of Compliance, in 1.b, second paragraph, that the statement “The ten unfueled guide tube positions are mechanically blocked to prevent loading in these positions” be revised to read “The ten unfueled cell locations are mechanically blocked to prevent loading in these positions.” The commenter stated that this terminology agrees with that in the previous sentence, and reflects the fact that there are no guide tubes in the unfueled cell locations.

Response: The NRC agrees with the comment and the CoC has been revised to clarify the statement.

C: Technical Specifications

Comment C-1: The commenter requested that LCO 3.3.2 (Storage Cask Temperatures During Storage) for the W21 Canister be revised to modify REQUIRED ACTION B.2 to allow for the use of alternative means to be developed by the licensee to bring the CASK into compliance with the LCO. Alternatively, REQUIRED ACTION B.2 should be deleted and replaced with a requirement for the licensee to develop the means to meet the LCO and notify NRC of the action taken. The commenter's logic was that the specification of a specific method to meet the LCO when there are other alternatives available is overly restrictive and may not be feasible in some conditions. This will permit decommissioning facilities to meet the LCO in the absence of a spent fuel pool. In addition, the additional flexibility can better satisfy ALARA by mitigating the personnel exposure associated with the removal of spent fuel from the CANISTER.

Response: The NRC disagrees with the comment. Currently, no alternative means of complying with the LCO have been proposed by the licensee or evaluated by the staff for acceptability. Any alternative means to meet the LCO shall be approved by the staff prior to implementation.

Comment C-2: The commenter requested that LCO 3.3.3 (Storage Cask Temperatures During Horizontal Transfer) for the W21 Canister be revised to modify REQUIRED ACTION C.1 to allow for the use of alternative means to be developed by the licensee to bring the CASK into compliance with the LCO. Alternatively, REQUIRED ACTION C.1 should be deleted and replaced with a requirement for the licensee to develop the means to meet the LCO and notify NRC of the action taken. The commenter's logic was that the specification of a specific method to meet the LCO when there are other alternatives available is overly restrictive and may not be feasible in some conditions. This will permit decommissioning facilities to meet the LCO in the absence of a spent fuel pool. In addition, the additional flexibility can better satisfy ALARA by mitigating the personnel exposure associated with the removal of spent fuel from the CANISTER.

Response: The NRC disagrees with the comment. Currently, no alternative means of complying with the LCO have been proposed by the licensee or evaluated by the staff for acceptability. Any alternative means to meet the LCO shall be approved by the staff before implementation.

Comment C-3: The commenter requested that LCO 3.3.2 (Storage Cask Temperatures During Storage) for the W74 Canister be revised to modify REQUIRED ACTION B.2 to allow for the use of alternative means to be developed by the licensee to bring the CASK into compliance with the LCO. Alternatively, REQUIRED ACTION B.2 should be deleted and replaced with a requirement for the licensee to develop the means to meet the LCO and notify NRC of the action taken. The commenter's logic was that the specification of a specific method to meet the LCO when there are other alternatives available is overly restrictive and may not be feasible in some conditions. This will permit decommissioning facilities to meet the LCO in the absence of a spent fuel pool. In addition, the additional flexibility can better satisfy ALARA by mitigating the personnel exposure associated with the removal of spent fuel from the CANISTER.

Response: The NRC disagrees with the comment. Currently, no alternative means of complying with the LCO have been proposed by the licensee or evaluated by the staff for acceptability. Any alternative means to meet the LCO would be approved by the staff prior to implementation.

Comment C-4: The commenter requested that LCO 3.3.3 (Storage Cask Temperatures During Horizontal Transfer) for the W74 Canister be revised to modify REQUIRED ACTION C.1 to allow for the use of alternative means to be developed by the licensee to bring the cask into compliance with the LCO. Alternatively, REQUIRED ACTION C.1 should be deleted and replaced with a requirement for the licensee to develop the means to meet the LCO and notify NRC of the action taken. The commenter's logic was that the specification of a specific method to meet the LCO when there are other alternatives available is overly restrictive and may not be feasible in some conditions. This will permit decommissioning facilities to meet the LCO in the absence of a spent fuel pool. In addition, the additional flexibility can better satisfy ALARA by mitigating the personnel exposure associated with the removal of spent fuel from the CANISTER.

Response: The NRC disagrees with the comment. Currently, no alternative means of complying with the LCO have been proposed by the licensee or evaluated by the staff for acceptability. Any alternative means to meet the LCO shall be approved by the staff prior to implementation.

Comment C-5: The commenter requested that the Technical Specification for the FuelSolutions Storage System, Section 4.2.2.1 (Storage Cask), be revised to add a note clarifying the requirements for site-specific pad designs that have different values from those listed. The following is requested to be added at the end of Section 4.2.2.1: “Any site-specific pad design with parameters that differ from those listed must be evaluated by the licensee to confirm that the design basis deceleration loads for the storage cask and canister are not exceeded. This evaluation must be performed using the same methodology as described in WSNF-200 SAR Section 3.7.3.1.”

Response: The NRC agrees with the comment. The Technical Specification for the FuelSolutions Storage System, Section 4.2.2.1 (Storage Cask) has been revised accordingly.

Comment C-6: The commenter requested that the Technical Specification for the FuelSolutions Storage System, Section 4.2.2.2 (Transfer Cask), be revised to add a note clarifying the requirements for site-specific pad designs that have different values from those listed. The following is requested to be added at the end of Section 4.2.2.2: “Any site-specific pad design with parameters that differ from those listed must be evaluated by the licensee to confirm that the design basis deceleration loads for the transfer cask and canister are not exceeded. This evaluation must be performed using the same methodology as described in WSNF-200 SAR Section 3.7.5.1.”

Response: The NRC agrees with the comment. The Technical Specification for the FuelSolutions Storage System, Section 4.2.2.2 (Transfer Cask) has been revised accordingly.

D: Safety Analysis Report

Comment D-1: The commenter requested that editorially, within the Safety Analysis Report in WSNF-200 SAR Table 12.1-1, the following references to the Technical Specifications be revised:

(a) Under Radiological Protection, 3.4.1 should be 5.3.5, and 3.6.1 should be 3.5.1.

(b) Under Structural Integrity, 3.5.1 should be 3.4.1.

Response: The NRC agrees with the comment. The editorial corrections were made to Table 12.1-1.

Summary of Final Revisions

Based on the responses above, the CoC, the TSs, the SAR, and the SER have been modified as follows:

1. The SER has been revised (Comments A-1 through and including A-6).

2. The CoC has been revised (Comment B-1).

3. The Technical Specification for the FuelSolutions Storage System, Section 4.2.2.1 (Storage Cask) has been revised. (Comment C-5).

4. The Technical Specification for the FuelSolutions Storage System, Section 4.2.2.2 (Transfer Cask) has been revised (Comment C-6).

5. Editorial corrections were made to Table 12.1-1 of the SAR (Comment D-1).

Agreement State Compatibility

Under the “Policy Statement on Adequacy and Compatibility of Agreement State Programs” approved by the NRC on June 30, 1997, and published in the Federal Register on September 3, 1997 (62 FR 46517), this rule is classified as compatibility Category “NRC.” Compatibility is not required for Category “NRC” regulations. The NRC program elements in this category are those that relate directly to areas of regulation reserved to the NRC by the Atomic Energy Act of 1954, as amended (AEA), or the provisions of Title 10 of the Code of Federal Regulations. Although an Agreement State may not adopt program elements reserved to NRC, it may wish to inform its licensees of certain requirements via a mechanism that is consistent with the particular State's administrative procedure laws, but does not confer regulatory authority on the State.

Voluntary Consensus Standards

The National Technology Transfer Act of 1995 (Pub. L. 104-113) requires that Federal agencies use technical standards that are developed or adopted by voluntary consensus standards bodies unless the use of such a standard is inconsistent with applicable law or otherwise impractical. In this final rule, th NRC is adding the FuelSolutions cask system to the list of NRC-approved cask systems for spent fuel storage in 10 CFR 72.214. This action does not constitute the establishment of a standard that establishes generally-applicable requirements.

Finding of No Significant Environmental Impact: Availability

Under the National Environmental Policy Act of 1969, as amended, and the Commission's regulations in Subpart A of 10 CFR part 51, the NRC has determined that this rule is not a major Federal action significantly affecting the quality of the human environment and therefore, an environmental impact statement is not required. This final rule adds an additional cask to the list of approved spent fuel storage casks that power reactor licensees can use to store spent fuel at reactor sites without additional site-specific approvals from the NRC. The environmental assessment and finding of no significant impact on which this determination is based are available for inspection at the NRC Public Document Room, 11555 Rockville Pike, Rockville, MD 20852 and electronically at http://ruleforum.llnl.gov. Single copies of the environmental assessment and finding of no significant impact are available from Stan Turel, Office of Nuclear Material Safety and Safeguards, U.S. Nuclear Regulatory Commission, Washington, DC 20555, telephone (301) 415-6234, e-mail spt@nrc.gov.

Paperwork Reduction Act Statement

This final rule does not contain a new or amended information collection requirement subject to the Paperwork Reduction Act of 1995 (44 U.S.C. 3501 et seq.). Existing requirements were approved by the Office of Management and Budget, approval number 3150-0132.

Public Protection Notification

If a means used to impose an information collection does not display a currently valid OMB control number, the NRC may not conduct or sponsor, and a person is not required to respond to, the information collection.

Regulatory Analysis

On July 18, 1990 (55 FR 29181), the Commission issued an amendment to 10 CFR part 72. The amendment provided for the storage of spent nuclear fuel in cask systems with designs approved by the NRC under a general license. Any part 50 nuclear power reactor licensee can use cask systems with designs approved by the NRC to store spent nuclear fuel if it notifies the NRC in advance, the spent fuel is stored under the conditions specified in the cask's CoC, and the conditions of the general license are met. In that rule, four spent fuel storage casks were approved for use at reactor sites and were listed in 10 CFR 72.214. That rule envisioned that storage casks certified in the future could be routinely added to the listing in 10 CFR 72.214 through the rulemaking process. Procedures and criteria for obtaining NRC approval of new spent fuel storage cask designs were provided in 10 CFR part 72, subpart L.

The alternative to this action is to withhold approval of this new design and issue a site-specific license to each utility that proposes to use the casks. This alternative would cost both the NRC and utilities more time and money for each site-specific license. Conducting site-specific reviews would ignore the procedures and criteria currently in place for the addition of new cask designs that can be used under a general license, and would be in conflict with Nuclear Waste Policy Act (NWPA) direction to the Commission to approve technologies for the use of spent fuel storage at the sites of civilian nuclear power reactors without, to the maximum extent practicable, the need for additional site reviews. This alternative also would tend to exclude new vendors from the business market without cause and would arbitrarily limit the choice of cask designs available to power reactor licensees. This final rule will eliminate the above problems and is consistent with previous NRC actions. Further, the rule will have no adverse effect on public health and safety.

The benefit of this rule to nuclear power reactor licensees is to make available a greater choice of spent fuel storage cask designs that can be used under a general license. The new cask vendors with casks to be listed in 10 CFR 72.214 benefit by having to obtain NRC certificates only once for a design that can then be used by more than one power reactor licensee. The NRC also benefits because it will need to certify a cask design only once for use by multiple licensees. Casks approved through rulemaking are to be suitable for use under a range of environmental conditions sufficiently broad to encompass multiple nuclear power plants in the United States without the need for further site-specific approval by NRC. Vendors with cask designs already listed may be adversely impacted because power reactor licensees may choose a newly listed design over an existing one. However, the NRC is required by its regulations and NWPA direction to certify and list approved casks. This rule has no significant identifiable impact or benefit on other Government agencies.

Based on the above discussion of the benefits and impacts of the alternatives, the NRC concludes that the requirements of the final rule are commensurate with the Commission's responsibilities for public health and safety and the common defense and security. No other available alternative is believed to be as satisfactory, and thus, this action is recommended.

Regulatory Flexibility Certification

In accordance with the Regulatory Flexibility Act of 1980 (5 U.S.C. 605(b)), the NRC certifies that this rule will not, if promulgated, have a significant economic impact on a substantial number of small entities. This rule affects only the licensing and operation of nuclear power plants, independent spent fuel storage facilities, and BNFL Fuel Solutions. The companies that own these plants do not fall within the scope of the definition of “small entities” set forth in the Regulatory Flexibility Act or the Small Business Size Standards set out in regulations issued by the Small Business Administration at 13 CFR part 121.

Backfit Analysis

The NRC has determined that the backfit rule (10 CFR 50.109 or 10 CFR 72.62) does not apply to this rule because this amendment does not involve any provisions that would impose backfits as defined in the backfit rule. Therefore, a backfit analysis is not required.

Small Business Regulatory Enforcement Fairness Act

In accordance with the Small Business Regulatory Enforcement Fairness Act of 1996, the NRC has determined that this action is not a major rule and has verified this determination with the Office of Information and Regulatory Affairs, Office of Management and Budget.

List of Subjects in 10 CFR Part 72

Criminal penalties, Manpower training programs, Nuclear materials, Occupational safety and health, Reporting and recordkeeping requirements, Security measures, Spent fuel.

For the reasons set out in the preamble and under the authority of the Atomic Energy Act of 1954, as amended; the Energy Reorganization Act of 1974, as amended; and 5 U.S.C. 553; the NRC is proposing to adopt the following amendments to 10 CFR part 72.

PART 72—LICENSING REQUIREMENTS FOR THE INDEPENDENT STORAGE OF SPENT NUCLEAR FUEL AND HIGH-LEVEL RADIOACTIVE WASTE

1. The authority citation for part 72 continues to read as follows:

Authority: Secs. 51, 53, 57, 62, 63, 65, 69, 81, 161, 182, 183, 184, 186, 187, 189, 68 Stat. 929, 930, 932, 933, 934, 935, 948, 953, 954, 955, as amended, sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended, 202, 206, 88 Stat. 1242, as amended, 1244, 1246 (42 U.S.C. 5841, 5842, 5846); Pub. L. 95-601, sec. 10, 92 Stat. 2951 as amended by Pub. L. 10d—48b, sec. 7902, 10b Stat. 31b3 (42 U.S.C. 5851); sec. 102, Pub. L. 91-190, 83 Stat. 853 (42 U.S.C. 4332); secs. 131, 132, 133, 135, 137, 141, Pub. L. 97-425, 96 Stat. 2229, 2230, 2232, 2241, sec. 148, Pub. L. 100-203, 101 Stat. 1330-235 (42 U.S.C. 10151, 10152, 10153, 10155, 10157, 10161, 10168).

Section 72.44(g) also issued under secs. 142(b) and 148(c), (d), Pub. L. 100-203, 101 Stat. 1330-232, 1330-236 (42 U.S.C. 10162(b), 10168(c),(d)). Section 72.46 also issued under sec. 189, 68 Stat. 955 (42 U.S.C. 2239); sec. 134, Pub. L. 97-425, 96 Stat. 2230 (42 U.S.C. 10154). Section 72.96(d) also issued under sec. 145(g), Pub. L. 100-203, 101 Stat. 1330-235 (42 U.S.C. 10165(g)). Subpart J also issued under secs. 2(2), 2(15), 2(19), 117(a), 141(h), Pub. L. 97-425, 96 Stat. 2202, 2203, 2204, 2222, 2244, (42 U.S.C. 10101, 10137(a), 10161(h)). Subparts K and L are also issued under sec. 133, 98 Stat. 2230 (42 U.S.C. 10153) and sec. 218(a), 96 Stat. 2252 (42 U.S.C. 10198).

2. In § 72.214, Certificate of Compliance 1026 is added to read as follows:

§ 72.214 List of approved spent fuel storage casks.

* * * * *

Certificate Number: 1026.

SAR Submitted by: BFNL Fuel Solutions.

SAR Title: Final Safety Analysis Report for the FuelSolutions Spent Fuel Management System.

Docket Number: 72-1026.

Certificate Expiration Date: March 19, 2021.

Model Number: WSNF-200, WSNF-201, and WSNF-203 systems; W-150 storage cask; W-100 transfer cask; and the W-21 and W-74 canisters

* * * * *

Dated at Rockville, Maryland, this 22nd day of December 2000.
For the Nuclear Regulatory Commission.
John W. Craig,
Acting Executive Director for Operations.

[FR Doc. 01-1172 Filed 1-12-01; 8:45 am]

BILLING CODE 7590-01-P